DEPARTMENT OF TRANSPORTATION

Federal Aviation Administration

14 CFR Part 39

[Docket No. 2000-CE-80-AD]

RIN 2120-AA64

Airworthiness Directives; Raytheon Aircraft Company 65, 90, 99, 100, 200, and 300 Series, and Model 2000 Airplanes

AGENCY: Federal Aviation Administration, DOT.

ACTION: Notice of proposed rulemaking (NPRM).

SUMMARY: This document proposes to adopt a new airworthiness directive (AD) that would apply to certain Raytheon Aircraft Company (Raytheon) 65, 90, 99, 100, 200, and 300 series, and Model 2000 airplanes. The proposed AD would require you to install new exterior operating instruction placards for the airstair door and emergency exits. The proposed AD is the result of Raytheon improving the visibility and understandability of the door operating instruction placards. This was done as a result of difficulty opening the emergency exits of a similar type design airplane. The actions specified by the proposed AD are intended to assure that clear and complete operating instructions are visible for opening the airstair door and emergency exits. If not visible or understandable, this could result in the inability to open the airstair door or emergency exits during an emergency situation.

DATES: The Federal Aviation Administration (FAA) must receive any comments on this proposed rule on or before October 15, 2002.

ADDRESSES: Submit comments to FAA, Central Region, Office of the Regional Counsel, Attention: Rules Docket No. 2000-CE-80-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2000-CE-80-AD” in the subject line. If you send comments electronically as attached electronic files, the files must be formatted in Microsoft Word 97 for Windows or ASCII text.

You may get service information that applies to this proposed AD from Raytheon Aircraft Company, 9709 E. Central, Wichita, Kansas 67201-0085; telephone: (800) 429-5372 or (316) 676-3140. You may also view this information at the Rules Docket at the address above.

FOR FURTHER INFORMATION CONTACT: Mr. Steven E. Potter, Aerospace Engineer, Wichita Aircraft Certification Office, FAA, 1801 Airport Road, Mid-Continent Airport, Wichita, Kansas 67209; telephone: (316) 946-4124; facsimile: (316) 946-4407.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule.

You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2000-CE-80-AD.” We will date stamp and mail the postcard back to you.

Discussion

What Events Have Caused This Proposed AD?

FAA believes that the instructions for opening the airstair door and emergency exits are either not visible or not easy to understand on Raytheon 65, 90, 99, 100, 200, and 300 series, and Model 2000 airplanes. This is based on an accident that resulted in the issuance of AD 97-04-02. AD 97-04-02 was later superseded by AD 98-21-20 to incorporate more visible and understandable instructions.

What Are the Consequences If the Condition is Not Corrected?

If the exterior door operating instruction placards are not visible or understandable, this could result in the inability to open the airstair door or emergency exits during an emergency situation.

Is There Service Information That Applies to This Subject?

Raytheon has issued Mandatory Service Bulletin SB 52-3096, Rev. 1, Revised: June, 2002.

What Are the Provisions of This Service Information?

The service bulletin includes procedures for installing new exterior placards with improved operating instructions for the airstair door and emergency exits on the affected airplanes.

The FAA's Determination and an Explanation of the Provisions of this Proposed AD

What Has FAA decided?

After examining the circumstances and reviewing all available information related to the incidents described above, we have determined that:

—The unsafe condition referenced in this document exists or could develop on other Raytheon 65, 90, 99, 100, 200, and 300 series, and Model 2000 airplanes of the same type design;

—The actions specified in the previously-referenced service information should be accomplished on the affected airplanes; and

—AD action should be taken in order to correct this unsafe condition.

What Would This Proposed AD Require?

This proposed AD would require you to install new exterior operating instruction placards for the airstair door and emergency exits.

Cost Impact

How Many Airplanes Would the Proposed AD Impact?

We estimate that the proposed AD would affect 3,587 airplanes in the U.S. registry.

What Would Be the Cost Impact of This Proposed AD on Owners/Operators of the Affected Airplanes?

We estimate the following costs to accomplish the proposed modification:

Labor cost | Parts cost | Total cost per airplane | Total cost on U.S. operators
2 workhours × $60 per hour = $120 | Approximately $190 per airplane | $120 + $190 = $310 | $310 × 3,587 = $1,111,970

The manufacturer will provide warranty credit for labor and parts to the extent noted under MANPOWER and MATERIAL in Raytheon Mandatory Service Bulletin SB 52-3096, Rev. 1, Revised: June, 2002.

Compliance Time of This Proposed AD

What Would Be the Compliance Time of This Proposed AD?

The compliance time of this proposed AD is “within the next 200 hours time-in-service (TIS) after the effective date of this AD or within the next 12 calendar months after the effective date of this AD, whichever occurs first.”

Why Is the Compliance Time of This Proposed AD Presented in Both Hours TIS and Calendar Time?

The unsafe condition on these airplanes is not a result of the number of times the airplane is operated. Airplane operation varies among operators. For example, one operator may operate the airplane 50 hours TIS in 3 months while it may take another operator 12 months or more to accumulate 50 hours TIS. For this reason, the FAA has determined that the compliance time of the proposed AD should be specified in both hours time-in-service (TIS) and calendar time in order to assure this condition is not allowed to go uncorrected over time.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2000-CE-80-AD

(a) What airplanes are affected by this AD? This AD affects the following airplane models and serial numbers that are certificated in any category;

Model | Serial Nos.
(1) 65-90, 65-A90, B90, C90, and C90A | LJ-1 through LJ-1530.
(2) 65-A90-1 (U-21A) | LM-1 through LM-125.
(3) 65-A90-1 (U-21G) | LM-126 through LM-141.
(4) 65-A90-2 (RU-21B) | LS-1 through LS-3.
(5) 65-A90-3 (RU-21C) | LT-1 and LT-2.
(6) 65-A90-4 (RU-21E) | LU-1 through LU-16.
(7) E90 | LW-1 through LW-347.
(8) F90 | LA-2 through LA-236.
(9) H90 (T-44A) | LL-1 through LL-61.
(10) 99, 99A, A99A, B99, and C99 | U-1 through U-239.
(11) 100 and A100 | B-1 through B-94 and B-100 through B-247.
(12) A100 (U-21F) | B95 through B-99.
(13) A100-1 (U-21J) | BB-3 through BB-5.
(14) A200 (C-12A) and (C-12C) | BC-1 through BC-75 and BD-1 through BD-30.
(15) A200C (UC-12B) | BJ-1 through BJ-66.
(16) A200CT (C-12D) | BP-1, BP-22, and BP-24 through BP-51.
(17) A200CT (C-12F) | BP-52 through BP-63.
(18) A200CT (FWC-12D) | BP-7 through BP-11.
(19) A200CT (RC-12D) | GR-1 through GR-12.
(20) A200CT (RC-12G) | FC-1 through FC-3.
(21) A200CT (RC-12H) | GR-14 through GR-19.
(22) A200CT (RC-12K) | FE-1 through FE-9.
(23) A200CT (RC-12P) | FE-25 through FE-31, FE-33, and FE-35.
(24) A200CT (RC-12Q) | FE-32, FE-34, and FE-36.
(25) B100 | BE-1 through BE-137.
(26) B200 and 200 | BB-2, BB-6 through BB-1313, BB-1315 through BB-1384, and BB-1389 through BB-1662.
(27) B200C and 200C | BL-1 through BL-72, and BL-124 through BL-140.
(28) B200C (C-12F) | BL-73 through BL-112, BL-118 through BL-123, and BP-64 through BP-71.
(29) B200C (C-12R) | BW-1 through BW-29.
(30) B200C (UC-12F) | BU-1 through BU-10.
(31) B200C (UC-12M) | BV-1 through BV-10.
(32) B200CT and 200CT | BN-1 through BN-4.
(33) B200T and 200T | BT-1 through BT-38, and BB-1314.
(34) 300 | FA-1 through FA-230, and FF-1 through FF-19.
(35) B300 | FL-1 through FL-252.
(36) B300C | FM-1 through FM-9, and FN-1.
(37) 2000 | NC-4 through NC-53.

(b) Who must comply with this AD? Anyone who wishes to operate any of the airplanes identified in paragraph (a) of this AD must comply with this AD.

(c) What problem does this AD address? The actions specified by this AD are intended to assure that clear and complete operating instructions are visible for opening the airstair door and emergency exits. If not visible or understandable, this could result in the inability to open the airstair door or emergency exits during an emergency situation.

(d) What actions must I accomplish to address this problem? To address this problem, you must accomplish the following:

Actions | Compliance | Procedures
Modify the exterior door operating procedures by incorporating the kit as specified in the service bulletin | Within the next 200 hours time-in-service (TIS) after the effective date of this AD or within the next 12 calendar months after the effective date of this AD, whichever occurs first | In accordance with the applicable kit instructions as specified in the Accomplishment Instructions section in Raytheon Mandatory Service Bulletin SB 52-3096, Rev. 1, Revised: June, 2002. Use Paragraph (7) of the Accomplishment Instructions section in Raytheon Mandatory Service Bulletin SB 52-3096, Rev. 1, Revised: June, 2002, to accomplish this action on the Model 2000 airplanes.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. Steven E. Potter, Aerospace Engineer, Wichita Aircraft Certification Office, FAA, 1801 Airport Road, Mid-Continent Airport, Wichita, Kansas 67209; telephone: (316) 946-4124; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

Issued in Kansas City, Missouri, on August 2, 2002.
Dorenda D. Baker,
Acting Manager, Small Airplane Directorate, Aircraft Certification Service.

[FR Doc. 02-20135 Filed 8-8-02; 8:45 am]

BILLING CODE 4910-13-P